DEPARTMENT OF COMMERCE

International Trade Administration

[A-570-970]

Multilayered Wood Flooring From the People's Republic of China: Notice of Court Decision Not in Harmony With the Results of Antidumping Administrative Review; Notice of Amended Final Results

AGENCY: Enforcement and Compliance, International Trade Administration, Department of Commerce.

SUMMARY: On September 18, 2024, the U.S. Court of International Trade (CIT) issued its final judgment in Fusong Jinlong Wooden Group Co., Ltd., et al v. United States, Consol. Court no. 19-00144, sustaining the U.S. Department of Commerce (Commerce)'s remand results pertaining to the administrative review of the antidumping duty (AD) order on Multilayered Wood Flooring (MLWF) from the People's Republic of China (China) covering the period December 1, 2016 through November 30, 2017. Commerce is notifying the public that the CIT's final judgment is not in harmony with Commerce's final results of the administrative review, and that Commerce is amending the final results with respect to the dumping margin assigned to exporters that were eligible for a separate rate but not selected for individual examination.

DATES: Applicable September 28, 2024.

FOR FURTHER INFORMATION CONTACT: Matthew Lipka, AD/CVD Operations, Office VIII, Enforcement and Compliance, International Trade Administration, U.S. Department of Commerce, 1401 Constitution Avenue NW, Washington, DC 20230; telephone: (202) 482-7976.

SUPPLEMENTARY INFORMATION:

Background

On August 5, 2019, Commerce published its Final Results in the 2016-2017 AD administrative review of MLWF from China.¹ In that review, Commerce calculated the dumping margin assigned to the non-individually examined companies found to be eligible for a separate rate as the simple-average of the two individually examined mandatory respondents' rates, a zero percent rate and an 85.13 percent rate based on facts available with an adverse inference (AFA), resulting in a margin of 42.57 percent.²

¹ See Multilayered Wood Flooring From the People's Republic of China: Final Results of Antidumping Duty Administrative Review and Final Determination of No Shipments; 2016-2017, 84 FR 38002, 38003 (August 5, 2019) (Final Results).

² Id.

Mandatory respondent Sino-Maple (Jiangsu) Co., Ltd. (Sino Maple), certain separate rate companies,³ and certain companies subject to the China-wide entity ⁴ rate appealed Commerce's Final Results. On December 22, 2022, the CIT remanded the Final Results to Commerce, sustaining Commerce's use of AFA to calculate Sino-Maple's rate and the separate rate eligibility determinations while remanding the Final Results on the issue of whether Commerce's use of Jiangsu Senmao Bamboo and Wood Industry Co., Ltd.'s (Senmao) highest transaction-specific dumping margin as Sino-Maple's AFA rate was authorized by section 776(d) of the Tariff Act of 1930, as amended (the Act).⁵ The Court reserved decision on certain other challenges to Commerce's calculation of the separate rate assigned to the respondents not selected for individual examination. Commerce filed a motion for reconsideration of Fusong I, which was granted by the CIT on October 4, 2023, and found that Commerce's method for selecting AFA for Sino-Maple was lawful and relieved Commerce of a remand redetermination on that issue.⁶

³ See Appendix for a list of the separate rate companies under injunction.

⁴ The enjoined companies subject to the China-wide rate are: Baishan Huafeng Wooden Product Co., Ltd., Dalian Penghong Floor Products Co., Ltd., Jilin Forest Industry Jinqiao Flooring Group Co., Ltd., Kingman Floors Co., Ltd., and Scholar Home (Shanghai) New Material Co., Ltd. See Multilayered Wood Flooring From the People's Republic of China: Preliminary Results of the Antidumping Duty Administrative Review; 2016-2017, 83 FR 65630 (December 21, 2018) and accompanying Preliminary Decision Memorandum at 6, 7, and 12 (unchanged in the final results).

⁵ See Fusong Jinlong Wooden Grp. Co., Ltd. v. United States, 617 F.Supp.3d 1221 (CIT 2022) (Fusong I).

⁶ See Fusong Jinlong Wooden Grp. Co. v. United States, Slip Op. 23-145 (CIT October 4, 2023) at 2.

In addressing the issue on reserve, on March 11, 2024, the CIT again remanded the Final Results for Commerce to reconsider or further explain its decision to calculate the separate rate as the simple-average of the mandatory respondents' zero percent and AFA rates, which the CIT viewed as a departure from its normal practice of using the expected method.⁷ Specifically, citing section 735(c)(5)(B) of the Act and the Statement of Administrative Action (SAA),⁸ the Court found that the statutory exception permits Commerce to use any reasonable method to establish the separate rate, but that in such cases the expected method Commerce would follow is to weight average a zero or de minimis margin with the AFA margin and that by choosing to use a simple average, Commerce was required to provide a reasonable explanation for its departure.⁹

⁷ See Fusong Jinlong Wooden Grp. Co., Ltd. v. United States, 693 F.Supp.3d 1302 (CIT 2024) (Fusong II).

⁸ See Statement of Administrative Action Accompanying the Uruguay Round Agreements Act, H.R. Doc. 103-316, Vol. 1 (1994), at 873.

⁹ See Fusong II at 1307-10.

In compliance with the CIT's order, Commerce calculated a weighted-average dumping margin of 31.63 percent for non-individually examined companies eligible for a separate rate.¹⁰ The CIT sustained Commerce's final redetermination.¹¹

¹⁰ See Final Results of Redetermination Pursuant to Court Remand, Fusong Jinlong Wooden Group Co., Ltd. et al v. United States, Court No. 19-144, Slip Op. 24-29 (CIT September 18, 2024), dated June 7, 2024, available at http://access.trade.gov/public/FinalRemandRedetermination.aspx.

¹¹ See Fusong Jinlong Wooden Grp. Co. v. United States, Slip Op. 24-103 (CIT September 18, 2024).

Timken Notice

In its decision in Timken,¹² as clarified by Diamond Sawblades,¹³ the U.S. Court of Appeals for the Federal Circuit held that, pursuant to section 516A(c) and (e) of the Act, Commerce must publish a notice of court decision that is not “in harmony” with a Commerce determination and must suspend liquidation of entries pending a “conclusive” court decision. The CIT's September 18, 2024, judgment constitutes a final decision of the CIT that is not in harmony with Commerce's Final Results. Thus, this notice is published in fulfillment of the publication requirements of Timken.

¹² See Timken Co. v. United States, 893 F.2d 337 (Fed. Cir. 1990) (Timken).

¹³ See Diamond Sawblades Manufacturers Coalition v. United States, 626 F.3d 1374 (Fed. Cir. 2010) (Diamond Sawblades).

Amended Final Results

Because there is now a final court judgment, Commerce is amending its Final Results with respect to the non-individually-examined companies as follows:

Exporter | Weighted- average dumping margin (percent)
Non-Individually-Examined Respondents Eligible for a Separate Rate ¹⁴ | 31.63

Cash Deposit Requirements

Because all separate rate respondents subject to injunction have a superseding cash deposit rate, i.e., there have been final results published in a subsequent administrative review, we will not issue revised cash deposit instructions to U.S. Customs and Border Protection (CBP). This notice will not affect the current cash deposit rate for those companies.

Liquidation of Suspended Entries

At this time, Commerce remains enjoined from liquidating entries that were exported by the non-individually-examined companies, and were entered, or withdrawn from warehouse, for consumption during the period December, 1, 2016 through November 30, 2017.¹⁵ These entries will remain enjoined pursuant to the terms of the injunction during the pendency of any appeals process.

¹⁴ See Appendix.

¹⁵ See Appendix for a list of the non-examined respondents eligible for a separate rate.

In the event the CIT's ruling is not appealed, or, if appealed, is upheld by a final and conclusive court decision, Commerce intends to instruct CBP to assess antidumping duties on unliquidated entries of subject merchandise exported by the non-individually examined separate rate respondents in accordance with 19 CFR 351.212(b), where appropriate. We will instruct CBP to assess antidumping duties on all appropriate entries covered by this review at the AD rate noted in the table above.

Notification to Interested Parties

This notice is issued and published in accordance with sections 516A(c) and (e) and 777(i)(1) of the Act.

Dated: September 27, 2024.
Ryan Majerus,
Deputy Assistant Secretary for Policy and Negotiations, performing the non-exclusive functions and duties of the Assistant Secretary for Enforcement and Compliance.

Appendix

Non-Individually Examined Respondents Eligible To Receive a Separate Rate Under Injunction

A&W (Shanghai) Woods Co., Ltd.

Benxi Wood Company

Dalian Dajen Wood Co., Ltd.

Dalian Jiahong Wood Industry Co., Ltd.

Dalian Kemian Wood Industry Co., Ltd.

Dalian Qianqiu Wooden Product Co., Ltd.

Dongtai Fuan Universal Dynamics, LLC

Dun Hua Sen Tai Wood Co., Ltd.

Dunhua Shengda Wood Industry Co., Ltd.

Fusong Jinlong Wooden Group Co., Ltd.

Fusong Qianqiu Wooden Product Co., Ltd.

Hailin Linjing Wooden Products Co., Ltd.

Hangzhou Hanje Tec Co., Ltd.

Hunchun Xingjia Wooden Flooring Inc.

Huzhou Chenghang Wood Co., Ltd.

Jiangsu Guyu International Trading Co., Ltd

Jiangsu Mingle Flooring Co., Ltd.

Jiangsu Simba Flooring Co., Ltd.

Jiashan Huijiale Decoration Material Co., Ltd.

Kemian Wood Industry (Kunshan) Co., Ltd.

Linyi Anying Wood Co., Ltd.

Linyi Youyou Wood Co., Ltd.

Metropolitan Hardwood Floors, Inc.

Nakahiro Jyou Sei Furniture (Dalian) Co., Ltd.

Pinghe Timber Manufacturing (Zhejiang) Co., Ltd.

Shenyang Haobainian Wooden Co. Ltd.

Shenzhenshi Huanwei Woods Co., Ltd.

Suzhou Dongda Wood Co., Ltd.

Tongxiang Jisheng Import and Export Co., Ltd

Yihua Lifestyle Technology Co., Ltd.

Zhejiang Biyork Wood Co., Ltd.

Zhejiang Dadongwu GreenHome Wood Co., Ltd.

Zhejiang Fuerjia Wooden Co., Ltd.

[FR Doc. 2024-22971 Filed 10-3-24; 8:45 am]

BILLING CODE 3510-DS-P